DEPARTMENT OF AGRICULTURE

Animal and Plant Health Inspection Service

[Docket No. APHIS-2013-0036]

Notice of Request for Extension of Approval of an Information Collection; Importation of Artificially Dwarfed Plants

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of artificially dwarfed plants.

DATES: We will consider all comments that we receive on or before July 29, 2013.

ADDRESSES: You may submit comments by either of the following methods:

• Federal eRulemaking Portal: Go to http://www.regulations.gov/#!documentDetail;D=APHIS-2013-0036-0001.

• Postal Mail/Commercial Delivery: Send your comment to Docket No. APHIS-2013-0036, Regulatory Analysis and Development, PPD, APHIS, Station 3A-03.8, 4700 River Road Unit 118, Riverdale, MD 20737-1238.

Supporting documents and any comments we receive on this docket may be viewed at http://www.regulations.gov/#!docketDetail;D=APHIS-2013-0036 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of artificially dwarfed plants, contact Mr. Dave Farmer, National Operations Manager, PEQ Coordinator, PPQ, APHIS, Venture IV, Suite 200, 920 Main Campus Drive, Raleigh, NC 27606; (919) 855-7366. For copies of more detailed information on the information collection, contact Mrs. Celeste Sickles, APHIS' Information Collection Coordinator, at (301) 851-2908.

SUPPLEMENTARY INFORMATION: Title: Importation of Artificially Dwarfed Plants.

OMB Number: 0579-0176.

Type of Request: Extension of approval of an information collection.

Abstract: Under the Plant Protection Act (7 U.S.C. 7701 et seq.), the Secretary of Agriculture is authorized to prohibit or restrict the importation, entry, or interstate movement of plants, plant products, and other articles to prevent the introduction of plant pests into the United States or their dissemination within the United States. This authority has been delegated to the Animal and Plant Health Inspection Service.

The regulations contained in “Subpart-Plants for Planting” (7 CFR 319.37 through 319.37-14) prohibit or restrict the importation of living plants, plant parts, and seeds for propagation. Among other things, § 319.37-5(q) requires artificially dwarfed plants that are imported into the United States, except for plants that are less than 2 years old, to be accompanied by a phytosanitary certificate issued by the government of the country of origin. This phytosanitary certificate must contain declarations that the plants were:

• Grown for at least 2 years in a greenhouse or screenhouse in a nursery registered with the government of the country where the plants were grown;

• Grown in a greenhouse or screenhouse that has screening with openings of not more than 1.6 millimeters on all vents and openings, and all entryways equipped with automatic closing doors;

• Grown in pots containing only sterile growing media during the 2-year period when they were grown in a greenhouse or screenhouse in a registered nursery;

• Grown on benches at least 50 centimeters above the ground during the 2-year period when they were grown in a greenhouse or screenhouse in a registered nursery; and

• Inspected (along with the greenhouse or screenhouse and nursery) for any evidence of pests and found free of pests of quarantine significance to the United States at least once every 12 months by the plant protection service of the country where the plants are grown.

The phytosanitary certificate and declarations help APHIS verify that imported artificially dwarfed plants do not pose a risk for the introduction of longhorned beetles and other pests into the United States.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.25 hours per response.

Respondents: Importers, nurseries, and plant health officials of exporting countries.

Estimated annual number of respondents: 30.

Estimated annual number of responses per respondent: 5.

Estimated annual number of responses: 150.

Estimated total annual burden on respondents: 38 hours. (Due to averaging, the total annual burden hours may not equal the product of the annual number of responses multiplied by the reporting burden per response.)

All responses to this notice will be summarized and included in the request for OMB approval. All comments will also become a matter of public record.

Done in Washington, DC, this 22nd day of May 2013.
Kevin Shea,
Acting Administrator, Animal and Plant Health Inspection Service.

[FR Doc. 2013-12681 Filed 5-28-13; 8:45 am]

BILLING CODE 3410-34-P